ENVIRONMENTAL PROTECTION AGENCY

[FRL-8898-9]

Good Neighbor Environmental Board

AGENCY: Environmental Protection Agency (EPA).

ACTION: Notification of meeting.

SUMMARY: Pursuant to the Federal Advisory Committee Act, Public Law 92-463, notice is hereby given that the Good Neighbor Environmental Board (GNEB) will hold a public teleconference on May 15, 2009, from 1 p.m. to 3 p.m. Eastern Standard Time. The meeting is open to the public. For further information regarding the teleconference and background materials, please contact Mark Joyce at the number listed below.

Background: GNEB is a Federal advisory committee chartered under the Federal Advisory Committee Act, Public Law 92463. GNEB provides advice and recommendations to the President and Congress on environmental and infrastructure issues along the U.S. border with Mexico.

Purpose of Meeting: The purpose of this teleconference is to approve the Good Neighbor Environmental Board's draft advice letter to Nancy Sutley, Chair, Council on Environmental Quality. The Board will also discuss topics for the agenda for the Board's upcoming meeting in El Cajon, CA, on June 10-11, 2009, as well as the Board's Thirteenth Report.

SUPPLEMENTARY INFORMATION: If you wish to make oral comments or submit written comments to the Board, please contact Mark Joyce at least five days prior to the meeting.

General Information: Additional information concerning the GNEB can be found on its Web site at http://www.epa.gov/ocem/gneb.

Meeting Access: For information on access or services for individuals with disabilities, please contact Mark Joyce at (202) 564-2130 or e-mail him at joyce.mark@epa.gov. To request accommodation of a disability, please contact Mark Joyce at least 10 days prior to the meeting to give EPA as much time as possible to process your request.

Dated: April 23, 2009.
Sonia Altieri,
Designated Federal Officer.

[FR Doc. E9-9833 Filed 4-28-09; 8:45 am]

BILLING CODE 6560-50-P